ENVIRONMENTAL PROTECTION AGENCY

[FRL-6718-6]

National Advisory Council on Environmental Policy and Technology; Notice of Charter Renewal

AGENCY: Environmental Protection Agency (EPA).

ACTION: Notice of charter renewal.

The Charter for the Environmental Protection Agency's National Advisory Council for Environmental Policy and Technology (NACEPT) will be renewed for an additional two-year period, as a necessary committee which is in the public interest, in accordance with the provisions of the Federal Advisory Committee Act (FACA), 5 U.S.C. App 9(c). The purpose of NACEPT is to provide advice and recommendations to the Administrator of EPA on issues associated with environmental management and policy.

It is determined that NACEPT is in the public interest in connection with the performance of duties imposed on the Agency by law.

Inquiries may be directed to Gwendolyn Whitt, U.S. EPA, (mail code 1601-A), 1200 Pennsylvania Avenue, NW, Washington, D.C. 20460.

Dated: March 28, 2000.
Gordon Schisler,
Acting Director, Office of Cooperative Environmental Management.

[FR Doc. 00-15397 Filed 6-16-00; 8:45 am]

BILLING CODE 6560-50-P